DEPARTMENT OF HEALTH AND HUMAN SERVICES

National Institutes of Health

National Institute on Drug Abuse; Amended Notice of Meeting

Notice is hereby given of a change in the meeting of the National Institute on Drug Abuse Special Emphasis Panel, May 22, 2014, 12:00 p.m. to May 23, 2014, 05:00 p.m., National Institutes of Health, Neuroscience Center, 6001 Executive Boulevard, Rockville, MD 20852 which was published in the Federal Register on April 28, 2014, 79 82 FR 2014-09616.

The date and time of the meeting were changed to May 23, 2014, 1:00 p.m. to May 23, 2014, 5:00 p.m. The meeting is closed to the public.

Dated: May 1, 2014.
Michelle Trout,
Program Analyst, Office of Federal Advisory Committee Policy.

[FR Doc. 2014-10465 Filed 5-6-14; 8:45 am]

BILLING CODE 4140-01-P